DEPARTMENT OF THE INTERIOR

Bureau of Land Management

[LLMT926000-L19100000-BJ0000-LRCME1G05121]

Notice of Filing of Plats of Survey; North Dakota

AGENCY: Bureau of Land Management, Interior.

ACTION: Notice of filing of plats of survey.

SUMMARY: The Bureau of Land Management (BLM) will file the plat of survey of the lands described below in the BLM Montana State Office, Billings, Montana, on September 24, 2012.

DATES: Protests of the survey must be filed before September 24, 2012 to be considered.

ADDRESSES: Protests of the survey should be sent to the Branch of Cadastral Survey, Bureau of Land Management, 5001 Southgate Drive, Billings, Montana 59101-4669.

FOR FURTHER INFORMATION CONTACT: Marvin Montoya, Cadastral Surveyor, Branch of Cadastral Survey, Bureau of Land Management, 5001 Southgate Drive, Billings, Montana 59101-4669, telephone (406) 896-5124 or (406) 896-5009, Marvin_Montoya@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This survey was executed at the request of the Regional Director, Bureau of Indian Affairs, Great Plains Region, Aberdeen, South Dakota, and was necessary to determine individual and tribal trust lands.

The lands we surveyed are:

Fifth Principal Meridian, North Dakota

T. 151 N., R. 64 W.

The plat, in three sheets, representing the dependent resurvey of a portion of the subdivisional lines, a portion of the subdivision of section 15, and a portion of the adjusted 1885 meanders of Wood Lake in section 15, the subdivision of section 15, and the survey of the partition of Lot 5 of section 15 into two parcels, in Township 151 North, Range 64 West, Fifth Principal Meridian, North Dakota, was accepted August 13, 2012.

We will place a copy of the plat, in three sheets, and related field notes we described in the open files. They will be available to the public as a matter of information. If the BLM receives a protest against this survey, as shown on this plat, in three sheets, prior to the date of the official filing, we will stay the filing pending our consideration of the protest.

We will not officially file this plat, in three sheets, until the day after we have accepted or dismissed all protests and they have become final, including decisions or appeals.

Authority: 43 U.S.C. Chap. 3.

Josh Alexander,
Acting Chief Cadastral Surveyor, Division of Resources.

[FR Doc. 2012-20902 Filed 8-23-12; 8:45 am]

BILLING CODE 4310-DN-P